ENVIRONMENTAL PROTECTION AGENCY

[EPA-HQ-OPP-2012-0748; FRL-9362-9]

Halofenozide; Notice of Receipt of Requests To Voluntarily Cancel Pesticide Registrations and Terminate All Uses

AGENCY: Environmental Protection Agency (EPA).

ACTION: Notice.

SUMMARY: In accordance with the Federal Insecticide, Fungicide, and Rodenticide Act (FIFRA), EPA is issuing a notice of receipt of request by registrants to voluntarily cancel pesticide registrations of all products containing the pesticide halofenozide. The requests would cancel all technical and end-use registrations and delete all halofenozide uses. The requests would terminate the last halofenozide products registered for use in the United States. EPA intends to grant these requests at the close of the comment period for this announcement unless the Agency receives substantive comments within the comment period that would merit its further review of these requests, or unless the registrants withdraw their requests. If these requests are granted, any sale, distribution, or use of products listed in this notice will be permitted after the registrations have been cancelled only if such sale, distribution, or use is consistent with the terms as described in the final order.

DATES: Unless a request is withdrawn by October 26, 2012 for registrations for which the registrant requested a waiver of the 180-day comment period, orders will be issued canceling these registrations. The Agency will consider withdrawal requests postmarked no later than October 26, 2012, whichever is applicable. Comments must be received on or before October 26, 2012, for those registrations where the 180-day comment period has been waived.

ADDRESSES: Submit your comments, identified by docket identification (ID) number EPA-HQ-OPP-2012-0748, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.htm. Additional instructions on commenting or visiting the docket, along with more information about dockets generally, is available at http://www.epa.gov/dockets.

FOR FURTHER INFORMATION CONTACT: Kaitlin Keller, Pesticide Re-evaluation Division (7508P), Office of Pesticide Programs, Environmental Protection Agency, 1200 Pennsylvania Ave. NW., Washington, DC 20460-0001; telephone number: (703) 308-8172; email address: keller.kaitlin@epa.gov.

SUPPLEMENTARY INFORMATION:

I. General Information

A. Does this action apply to me?

This action is directed to the public in general. Although this action may be of particular interest to persons who produce or use pesticides, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the Agency taking?

This notice announces receipt by the Agency of applications from registrants to cancel all 10 halofenozide pesticide products registered under FIFRA section 3 or 24(c). Halofenozide is an ecdysone agonist insecticide that induces a premature and incomplete molt in susceptible species. Halofenozide is registered for use against immature stages of beetle pests (soil dwelling “white grubs”). Halofenozide is registered for use on non-agricultural uses sites, including airports/landing fields, commercial/industrial lawns, golf course turf, ornamental lawns and turf, ornamental sod farm, recreation area lawns, and residential lawns. There are no registered food or agricultural uses. In a letter dated June 25, 2012, the technical registrant, Dow AgroSciences, requested EPA to cancel certain pesticide product registrations identified in Table 1 of this unit. Specifically, Dow AgroSciences requested cancellation of its nine halofenozide product registrations because they no longer manufacture or produce halofenozide products. On August 6, 2012, the other end-use registrant, Setre Chemical Company, also requested cancellation of its halofenozide end-use product. This action on the registrants' requests will terminate the last halofenozide pesticide products registered in the United States. These registrations are listed in sequence by registration number in Table 1 of this unit:

Table 1—Registrations With Pending Requests for Cancellation
Registration No. | Product name | Chemical name
038167-0029 | Mach 2 1.5G | Helena Chemical Company d/b/a Setre Chemical Company.
062719-0470 | Halofenozide Technical Insecticide | Dow AgroSciences LLC.
062719-0471 | Mach 2 2SC | Dow AgroSciences LLC.
062719-0472 | Mach 2 2.5% Granular Turf Insecticide | Dow AgroSciences LLC.
062719-0473 | Mach 2 1.5G Specialty Insecticide | Dow AgroSciences LLC.
062719-0474 | Mach 2 Plus Fertilizer 0.86% A.I. | Dow AgroSciences LLC.
062719-0475 | Mach 2 Plus Fertilizer 0.57% A.I. | Dow AgroSciences LLC.
062719-0476 | Mach 2 Manufacturing Use Concentrate | Dow AgroSciences LLC.
062719-0489 | Mach 2 Plus Fertilizer (1.0% A.I.) | Dow AgroSciences LLC.
062719-0490 | Mach 2 Plus Fertilizer (1.33% A.I.) | Dow AgroSciences LLC.

Unless a request is withdrawn by the registrant within 30 days of publication of this notice, orders will be issued canceling all of these registrations. Users of these pesticides or anyone else desiring the retention of a registration should contact the applicable registrant directly during this 30-day period.

Table 2 of this unit includes the names and addresses of record for all registrants of the products in Table 1 of this unit, in sequence by EPA company number:

Table 2—Registrants Requesting Voluntary Cancellation
EPA Company No. | Company name and address
38167 | Helena Chemical Company, d/b/a Setre Chemical Company, 225 Schilling Blvd., Suite 300, Collierville, TN 38017.
62719 | Dow AgroSciences LLC, 9330 Zionsville Rd., 308/2E, Indianapolis, IN 46268-1054.

III. What is the Agency's authority for taking this action?

Section 6(f)(1) of FIFRA provides that a registrant of a pesticide product may at any time request that any of its pesticide registrations be canceled. FIFRA further provides that, before acting on the request, EPA must publish a notice of receipt of any such request in the Federal Register. Thereafter, the EPA Administrator may approve such a request.

IV. Procedures for Withdrawal of Request

Registrants who choose to withdraw a request for cancellation must submit such withdrawal in writing to the person listed under FOR FURTHER INFORMATION CONTACT, postmarked before October 26, 2012. This written withdrawal of the request for cancellation will apply only to the applicable FIFRA section 6(f)(1) request listed in this notice. If the products have been subject to a previous cancellation action, the effective date of cancellation and all other provisions of any earlier cancellation action are controlling. The withdrawal request must also include a commitment to pay any reregistration fees due, and to fulfill any applicable unsatisfied data requirements.

V. Provisions for Disposition of Existing Stocks

Existing stocks are those stocks of registered pesticide products which are currently in the United States and which were packaged, labeled, and released for shipment prior to the effective date of the cancellation action. EPA's existing stocks policy published in the Federal Register issue of June 26, 1991 (56 FR 29362) provides that: “If a registrant requests to voluntarily cancel a registration where the Agency has identified no particular risk concerns, the registrant has complied with all applicable conditions of reregistration, conditional registration, and data call ins, and the registration is not subject to a Registration Standard, Label Improvement Program, or reregistration decision, the Agency will generally permit a registrant to sell or distribute existing stocks for 1 year after the cancellation request was received. Persons other than registrants will generally be allowed to sell, distribute, or use existing stocks until such stocks are exhausted.”

Upon cancellation of the pesticides identified in Table 1 of Unit II., EPA anticipates allowing sale, distribution and use as described in this unit. Exception to this general policy will be made in specific cases when more stringent restrictions on sale, distribution, or use of the products or their ingredients have already been imposed, as in a special review action, or where the Agency has identified significant potential risk concerns associated with a particular chemical.

List of Subjects

Environmental protection, Pesticides and pests.

Dated: September 14, 2012.
Richard P. Keigwin, Jr.,
Director, Pesticide Re-evaluation Division, Office of Pesticide Programs.

[FR Doc. 2012-23517 Filed 9-25-12; 8:45 am]

BILLING CODE 6560-50-P